DEPARTMENT OF HOMELAND SECURITY

Coast Guard

33 CFR Part 100

[Docket No. USCG-2022-0691]

Regulated Area; San Francisco Bay Navy Fleet Week Parade of Ships and Blue Angels Demonstration, San Francisco, CA

AGENCY: Coast Guard, DHS.

ACTION: Notification of enforcement of regulation.

SUMMARY: The Coast Guard will enforce the limited access area in the navigable waters of the San Francisco Bay for the San Francisco Bay Navy Fleet Week Parade of Ships and Blue Angels Survey Flight and Demonstration days from October 6 through October 9, 2022. This action is necessary to ensure the safety of event participants and spectators. During the enforcement period, unauthorized persons or vessels are prohibited from entering into, transiting through, or anchoring in the regulated area, unless authorized by the Patrol Commander (PATCOM). This notification of enforcement (NOE) announces new dates and times for enforcement and supersedes the previous NOE published for this event.

DATES: The regulations in 33 CFR 100.1105 will be enforced from 12:30 p.m. until 6 p.m. on October 6, 2022; from 9:30 a.m. until 5 p.m. on October 7, 2022; and from 11:30 a.m. until 5 p.m. daily on October 8, 2022 and October 9, 2022, as identified in the SUPPLEMENTARY INFORMATION section below.

FOR FURTHER INFORMATION CONTACT: If you have questions about this notification of enforcement, call or email Lieutenant Anthony Solares, Coast Guard Sector San Francisco, Waterways Management Division, 415-399-3585, SFWaterways@uscg.mil.

SUPPLEMENTARY INFORMATION: The Coast Guard will enforce the limited access area for the annual San Francisco Bay Navy Fleet Week Parade of Ships and Blue Angels Demonstration in 33 CFR 100.1105. This NOE supersedes the NOE published on September 6, 2022 at 87 FR 54390 for the same annual San Francisco Bay Navy Fleet Week Parade of Ships and Blue Angels Demonstration. A copy of the published NOE is also available in the docket USCG-2022-0691 on regulations.gov. After publication of that NOE, the event sponsor notified the Coast Guard that they needed to adjust the times of the event. This NOE announces the updated dates and times this limited access area will be enforced daily on October 6th through October 9th, 2022 as described in the following paragraph.

The regulated area “Alpha” in § 100.1105(b)(1) for the Navy Parade of Ships will be enforced from 9:30 a.m. until 12 p.m. on October 7, 2022. The regulated area “Bravo” in § 100.1105(b)(2) for the U.S. Navy Blue Angels will be enforced from 12:30 p.m. until 6 p.m. on October 6, 2022, and 11:30 a.m. until 5 p.m. daily from October 7, 2022 through October 9, 2022.

Regulated area “Alpha” will be enforced during the Navy Parade of Ships and is bounded by a line connecting the following points and thence along the shore to the point of beginning:

Latitude | Longitude
37°48′40″ N | 122°28′38″ W
37°49′10″ N | 122°28′41″ W
37°49′31″ N | 122°25′18″ W
37°49′06″ N | 122°24′08″ W
37°47′53″ N | 122°22′42″ W
37°46′00″ N | 122°22′00″ W
37°46′00″ N | 122°23′07″ W

Under the provisions of 33 CFR 100.1105, except for persons or vessels authorized by the PATCOM, in regulated area “Alpha” no person or vessel may enter the parade route or remain within 500 yards of any Navy parade vessel. No person or vessel shall anchor, block, loiter in, or impede the through transit of ship parade participants or official patrol vessels in regulated area “Alpha.”

Regulated area “Bravo” will be enforced during the Navy Blue Angels Demonstration and is bounded by a line connecting the following points and thence along the pierheads and bulwarks to the point of beginning:

Latitude | Longitude
37°48′27.5″ N | 122°24′04″ W
37°49′31″ N | 122°24′18″ W
37°49′00″ N | 122°27′52″ W
37°48′19″ N | 122°27′40″ W

Except for persons or vessels authorized by the PATCOM, no person or vessel may enter or remain within regulated area “Bravo.”

When hailed or signaled by U.S. Coast Guard patrol personnel by siren, radio, flashing light, or other means, a person or vessel shall come to an immediate stop. Persons or vessels shall comply with all directions given; failure to do so may result in expulsion from the area, citation for failure to comply, or both. The Coast Guard may be assisted by other Federal, State, or local law enforcement agencies in enforcing this regulation. The PATCOM shall be designated by the Commander, Coast Guard Sector San Francisco, California. The PATCOM is empowered to forbid and control the movement of all vessels in the regulated areas.

In addition to this notification of enforcement in the Federal Register, the Coast Guard plans to provide notification of this enforcement period via the Local Notice to Mariners.

Dated: September 23, 2022.
Taylor Q. Lam,
Captain, U.S. Coast Guard, Captain of the Port, San Francisco.

[FR Doc. 2022-21099 Filed 9-28-22; 8:45 am]

BILLING CODE 9110-04-P